DEPARTMENT OF VETERANS AFFAIRS

[OMB Control No. 2900-New (NVVLS)]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before April 22, 2004.

FOR FURTHER INFORMATION OR A COPY OF THE SUBMISSION CONTACT: Denise McLamb, Records Management Service (005E3), Department of Veterans Affairs, 810 Vermont Avenue, NW., Washington, DC 20420, (202) 273-8030, FAX (202) 273-5981 or e-mail: denise.mclamb@mail.va.gov. Please refer to “2900-New (NVVLS).”

Send comments and recommendations concerning any aspect of the information collection to VA's OMB Desk Officer, OMB Human Resources and Housing Branch, New Executive Office Building, Room 10235, Washington, DC 20503, (202) 395-7316. Please refer to “2900-New (NVVLS).”

SUPPLEMENTARY INFORMATION: Title: National Vietnam Veterans Longitudinal Study, VA Form 10-21064.

Type of Review: New collection.

Abstract: The National Vietnam Veterans Longitudinal Study (NVVLS) is a follow-up to the National Vietnam Veterans Readjustment Study (NVVRS) conducted in 1986 through 1987 to sample veterans who served in the U.S. Army, Navy, Air Force, or Marines between August 5, 1964, and May 7, 1975. The NVVRS found that 15.2 percent of the men and 8.5 percent of the women who had served in Vietnam were current cases of posttraumatic stress disorder (PTSD). The rates of PTSD for those veterans exposed to high levels of war-zone stress were dramatically higher than the rates for those with low/moderate levels of war-zone stress exposure. Because of the high rates of PTSD, the strong evidence for the persistence of this syndrome, and the strength of its association with war-zone stress exposure, it is imperative that the VA has information about the current functioning of the participants in the original study. To address the important need for follow-data and for an understanding of the current functioning of Vietnam veterans, the VA has contracted with Research Triangle Institute to conduct the NVVLS, follow-up study of the original cohort from the NVVRS. This follow-up of the NVVRS sample will be unique in the field and will enhance and supplement the original findings. The specific aims of this study are to assess:

a. Current prevalence of PTSD, with particular attention to changes in cases from initial assessment and to variables that might be associated with such changes;

b. Current prevalence of cardiovascular disorders and their precursors and risk factors, with particular attention to their relationship to war-zone stress exposure and PTSD;

c. Current prevalence of other psychiatric disorders and other postwar readjustment problems, with particular attention to their relationship to chronic disease outcomes; and

d. Healthcare utilization patterns, with particular attention to sociodemographic and other variables that moderate service use.

An agency may not conduct or sponsor, and a person is not required to respond to a collection of information unless it displays a currently valid OMB control number. The Federal Register notice with a 60-day comment period soliciting comments on this collection of information was published on December 15, 2003 at pages 69772-69773.

Affected Public: Individuals or households.

Estimated Annual Burden: 4,426 hours.

Estimated Average Burden Per Respondent: 18 hours 58 minutes.

Frequency of Response: One time.

Estimated Number of Respondents: 1,605.

By direction of the Secretary.
Dated: March 11, 2004.
Loise Russell,
Director, Records Management Service.

[FR Doc. 04-6466 Filed 3-22-04; 8:45 am]

BILLING CODE 8320-01-P